ENVIRONMENTAL PROTECTION AGENCY

[Petition IV-2015-3; FRL-9955-79-Region 4]

Clean Air Act Operating Permit Program; Petition for Objection to State Operating Permit for Tennessee Valley Authority—Bull Run (Anderson County, Tennessee)

AGENCY: Environmental Protection Agency (EPA).

ACTION: Notice of final order on petition to object to state operating permit.

SUMMARY: The EPA Administrator signed an Order, dated November 10, 2016, granting petition to object to Clean Air Act (CAA) title V operating permit issued by the Tennessee Department of Environment and Conservation (TDEC) to the Tennessee Valley Authority (TVA) Bull Run facility located in Clinton, Anderson County, Tennessee. This Order constitutes a final action on the petition submitted by Sierra Club and Environmental Integrity Project (Petitioners) and received by EPA on September 29, 2015.

ADDRESSES: Copies of the Order, the petition, and all pertinent information relating thereto are on file at the following location: EPA Region 4; Air, Pesticides and Toxics Management Division; 61 Forsyth Street SW.; Atlanta, Georgia 30303-8960. The Order is also available electronically at the following address: https://www.epa.gov/sites/production/files/2016-11/documents/tva_bull_run_order_granting_petition_to_object_to_permit_.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Petitioners submitted a petition regarding the aforementioned TVA Bull Run facility, requesting that EPA object to the CAA title V operating permit (#01-0009/567519). Petitioners alleged that the permit was not consistent with the CAA because it lacks sufficient monitoring to assure compliance with the opacity limit established pursuant to Tennessee Comprehensive Rules & Regulations 1200-03-05-.01.

On November 10, 2016, the Administrator issued an Order granting the petition. The Order explains EPA's rationale for granting the petition.

Dated: November 18, 2016.
Heather McTeer Toney,
Regional Administrator, Region 4.

[FR Doc. 2016-28742 Filed 11-28-16; 8:45 am]

BILLING CODE 6560-50-P